DEPARTMENT OF DEFENSE

Office of the Secretary

[Docket ID: DoD-2022-OS-0098]

Proposed Collection; Comment Request

AGENCY: Office of the Under Secretary of Defense for Personnel and Readiness (OUSD(P&R)), Department of Defense (DoD).

ACTION: Information collection notice.

SUMMARY: In compliance with the Paperwork Reduction Act of 1995, the Office of the Under Secretary of Defense for Personnel and Readiness announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by October 4, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Human Resources Activity, 4800 Mark Center Drive, Suite 08F05, Alexandria, VA 22350, LaTarsha Yeargins, 571-372-2089.

SUPPLEMENTARY INFORMATION:

Title; Associated Form; and OMB Number: Evaluation of the DoD SPARX Knowledge Training Program; OMB Control Number 0704-ESKP.

Needs and Uses: In a memo dated 26 February 2021, the Secretary of Defense required the Military Departments to ensure that at least half of their identified violence prevention workforce receives initial training by 31 December 2021, with the entire workforce trained by 30 June 2022. To meet this need, the Office of Force Resiliency's Violence Prevention Cell has developed an integrated violence prevention curriculum, titled DoD SPARX Knowledge, to establish a common base of knowledge within the prevention workforce. The purpose of this information collection is to evaluate the effectiveness of the DoD SPARX Knowledge training program and make improvements to the program, as needed. The curriculum is appropriate for Service Members and DoD civilians serving in violence prevention roles and is broken into modules that align with the prevention process of the Prevention Plan of Action and the data-informed actions of the Integrated Prevention Policy. The overarching goal of the DoD SPARX Knowledge training is to equip the prevention workforce with the appropriate knowledge, skills, and resources to select, implement, and evaluate research-based prevention activities.

Affected Public: Individuals or households.

Annual Burden Hours: 1362.3 hours.

Number of Respondents: 820.

Responses per Respondent: 5.6.

Annual Responses: 4,592.

Average Burden per Response: 17.8 minutes.

Frequency: On occasion.

Dated: August 3, 2022.
Aaron T. Siegel,
Alternate OSD Federal Register Liaison Officer, Department of Defense.

[FR Doc. 2022-16970 Filed 8-5-22; 8:45 am]

BILLING CODE 5001-06-P